CONSUMER PRODUCT SAFETY COMMISSION

CPSC Artificial Intelligence and Machine Learning Test and Evaluation Forum

AGENCY: Consumer Product Safety Commission.

ACTION: Announcement of forum.

SUMMARY: Consumer Product Safety Commission (CPSC) staff is hosting a test and evaluation (TE) forum on consumer products employing artificial intelligence-related (AI) technologies, such as Machine Learning (ML). This forum will identify current TE of AI and ML capabilities. CPSC staff invites interested parties to attend or participate in this forum via webinar.

DATES: The forum will take place from 9 a.m. to 4 p.m., Eastern Standard Time (EST) on Thursday, March 31, 2022. Individuals interested in serving on panels or presenting information at the forum should register by February 25, 2022, submit abstracts for consideration by February 28, 2022, and if selected, provide final presentation slides by March 14, 2022. All other individuals who wish to attend the forum should register by March 21, 2022.

ADDRESSES: The forum will be held via webinar. Attendance is free of charge. Persons interested in attending the forum should register online at: https://attendee.gotowebinar.com/register/1626522265242906123. After registering, you will receive a confirmation email containing information about joining the webinar.

FOR FURTHER INFORMATION CONTACT: Nevin Taylor, Chief Technologist, 4330 East-West Highway, Bethesda, MD 20814; telephone: 301-509-0264; email: ntaylor@cpsc.gov.

SUPPLEMENTARY INFORMATION: CPSC is hosting a technical forum to collect information on the TE, certification, and product specification efforts associated with products employing AI/ML-related technologies.¹ The information collected from the forum will assist staff in making recommendations for improving TE capabilities associated with the safety of consumer products.

¹ The Commission voted 4-0 to approve this notice.

I. Background

With the growing use of AI/ML-related technologies to increase capabilities and mitigate potential harms, assessing the functionality and reliability of these technologies is important to ensure they do not present unreasonable risks of injury associated with consumer products. Methods for testing and evaluating AI/ML-related technologies are important in determining whether these capabilities contribute to creating an unreasonable risk of injury to consumers.

As AI/ML-related technologies dramatically change the nature of consumer products, their abilities to act and react automatically, and, in some cases, to learn and evolve, have brought to the forefront significant concerns for potential impacts to product safety. The inherent learning abilities of some ML presents unique product testing challenges. CPSC seeks to understand existing and future testing capabilities for evaluating AI/ML-related components, such as sensors, data, software, networks, and related hardware, as well as their integration for AI/ML-enabled products. CPSC seeks information on foreseeable interactions between these components and features with users and the environment in addition to information on testing how these features and components contribute to machine learning-based evolution of products.

II. Forum Topics

Manufacturers and test laboratories may already employ in-product development testing and evaluation capabilities to ensure safety is built into products with AI/ML-related technologies. There may also be test capabilities used to evaluate changes to products after purchase, to monitor and measure the potential impact on consumers, given the evolution of AI/ML-related technologies within products. These evaluations may or may not use existing standards, which are evolving, but they are needed to determine whether AI/ML-related technologies are to contribute to consumer product hazards throughout their lifecycle and to inform standard development. This forum will focus on existing testing and evaluation capabilities and the need to establish an adequate methodology to determine if AI/ML-related technologies contribute to an unreasonable risk that could injure consumers. It will explore existing and future testing and evaluation capabilities related to the following four topics:

• Components: Identify and test components of AI in isolation, including sensors/data, algorithms, connectivity (including communications and actuation), and computational capabilities.

• Products: Evaluate AI-enabled consumer products as a system, by monitoring, measuring, and modeling their characteristics.

• Assessment: Leverage current risk-assessment methodologies to identify the potential for AI and ML to contribute to an unreasonable risk of harm in consumer products.

• SYNOPSIS and Q&A: Round-table discussion with subject matter experts interacting with the participants regarding the previously presented panels.

III. Forum Details

A. Forum Time and Place

CPSC staff will hold the forum via webinar from 9 a.m. to 4 p.m., EST on Thursday, March 31, 2022.

B. Forum Registration

If you would like to attend the forum, but you do not wish to make a presentation or participate on a panel, please register online by March 21, 2022. (See the ADDRESSES portion of this document for the website link and instructions to register.)

If you would like to present at the TE Forum, or you wish to be considered as a panel member for a specific topic or topics, please register by February 25, 2022, and email an electronic version of your abstract to Nevin Taylor, ntaylor@cpsc.gov, by February 28, 2022. (See the ADDRESSES portion of this document for the website link and instructions to register.) Abstracts should be relevant to the forum topic and no longer than two pages. Staff will select panelists and individuals to make presentations at the forum, based on considerations such as:

• Submitted abstract information

• Individual's demonstrated familiarity or expertise with the topic to be discussed

• Practical application of the information to be presented

• Individual's viewpoint or ability to represent certain interests (such as large manufacturers, small manufacturers, consumer advocates, and consumers)

Staff would like the presentations to represent and address a wide variety of stakeholders and interests. Staff will notify those who are selected to make a presentation or participate in a panel by March 2, 2022, so that you can prepare and provide your final presentation by March 14, 2022.

Although staff will try to accommodate all persons who wish to make a presentation, the time allotted for presentations will depend on the agenda and the number of persons who wish to speak on a given topic. Staff recommends that individuals and organizations with common interests consolidate or coordinate their presentations, and request time for a joint presentation. If you have any questions regarding participating in the forum, please contact Nevin Taylor, by email at: ntaylor@cpsc.gov, or telephone at: 301-509-0264.

Detailed instructions for the webinar participants and other interested parties will be made available on the CPSC's Public Calendar: https://cpsc.gov/newsroom/public-calendar.

Alberta E. Mills,
Secretary, U.S. Consumer Product Safety Commission.

[FR Doc. 2022-01721 Filed 1-27-22; 8:45 am]

BILLING CODE 6355-01-P